NATIONAL SCIENCE FOUNDATION

Advisory Committee for Computer and Information Science and Engineering Notice of Meeting

In accordance with the Federal Advisory Committee Act (Pub. L. 92-463, as amended), the National Science Foundation announces the following meeting:

Name: Advisory Committee for Computer and Information Science and Engineering—(1115).

Date and Time: October 25, 2002: 8 a.m. to 3:45 p.m.

Place: Hilton Arlington and Towers, Master Ballroom, 950 N. Stafford Street, Arlington, VA 22203.

Type of Meeting: Open.

Contact Person: Gwen Barber-Blount, Office of the Assistant Director, Directorate for Computer and Information Science and Engineering, National Science Foundation, 4201 Wilson Blvd., Suite 1105, Arlington, VA 22230. Telephone: (703) 292-8900.

Minutes: May be obtained from the contact person listed above.

Purpose of Meeting: To advise NSF on the impact of its policies, programs and activities on the CISE community. To provide advice to the Assistant Director/CISE on issues related to long range planning, and to form ad hoc subcommittees to carry out needed studies and tasks.

Agenda: Report from the Assistant Director. Discussion of Information Technology Research. CISE activity related to Homeland Security, NSF's Career Program, Cyber Infrastructure, use of panel reviews, and discussion of the COV report on the PACI program.

Dated: October 3, 2002.
Susanne Bolton,
Committee Management Officer.

[FR Doc. 02-25601 Filed 10-7-02; 8:45 am]

BILLING CODE 7555-01-M